DEPARTMENT OF THE TREASURY

Agency Information Collection Activities; Submission for OMB Review; Comment Request; Multiple Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before December 28, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Departmental Offices (DO)

1. Title: Reporting of International Capital and Foreign Currency Transactions and Positions

OMB Control Number: 1505-0149.

Type of Review: Extension without change of a currently approved collection.

Description: 31 CFR part 128 establishes general guidelines for reporting on U.S. claims on, and liabilities to foreigners; on transactions in securities with foreigners; and on monetary reserve of the U.S. It also establishes guidelines for reporting on the foreign currency of U.S. persons. It includes a record keeping requirement in section 128.5.

Form: None.

Affected Public: Businesses or other for-profits.

Estimated Number of Respondents: 2,134.

Frequency of Response: On occasion.

Estimated Total Number of Annual Responses: 21,568.

Estimated Time per Response: 20 minutes.

Estimated Total Annual Burden Hours: 7,189.

2. Title: Request for Transfer of Property Seized/Forfeited by a Treasury Agency

OMB Control Number: 1505-0152.

Type of Review: Revision of a currently approved collection.

Description: Form TD F 92-22.46 is necessary for the application for receipt of seized assets by State and Local Law Enforcement agencies.

Form: TD F 92-22.46.

Affected Public: State and local governments.

Estimated Number of Respondents: 1,000.

Frequency of Response: On occasion.

Estimated Total Number of Annual Responses: 7,000.

Estimated Time per Response: 30 minutes.

Estimated Total Annual Burden Hours: 3,500.

3. Title: Assessment of Fees on Large Bank Holding Companies and Nonbank Financial Companies

OMB Control Number: 1505-0245.

Type of Review: Revision of a currently approved collection.

Description: The Financial Research Fund (FRF) Preauthorized Payment Agreement form will collect information with respect to the final rule (31 CFR part 150) on the assessment of fees on large bank holding companies and nonbank financial companies supervised by the Federal Reserve Board to cover the expenses of the FRF.

Form: TD F 105.1.

Affected Public: Businesses or other for-profits.

Estimated Number of Respondents: 39.

Frequency of Response: Once.

Estimated Total Number of Annual Responses: 39.

Estimated Time per Response: 15 minutes.

Estimated Total Annual Burden Hours: 10.

Authority: 44 U.S.C. 3501 et seq.

Dated: November 21, 2018.
Spencer W. Clark,
Treasury PRA Clearance Officer.

[FR Doc. 2018-25909 Filed 11-27-18; 8:45 am]

BILLING CODE 4810-25-P